DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at 240-276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: SAMHSA Disaster Technical Assistance Center Training, Webinar, Podcast, and Mobile Application Feedback Forms—New

The Substance Abuse and Mental Health Services Administration (SAMHSA) is requesting approval for a 3-year data collection effort associated with the SAMHSA Disaster Technical Assistance Center Training, Webinar, Podcast, and Mobile Application Feedback Forms—New. The collection includes five data collection instruments—the Training Feedback Form, the Webinar/Podcast Feedback Form, the Mobile Application Feedback Form, the Training Evaluation Follow-Up Interview Guide, and the Webinar Feedback Form Follow-Up Interview Guide. All of the proposed data collection efforts will be used to gather feedback on several training, webinar, and podcast events provided by SAMHSA DTAC throughout the year, as well as feedback on a SAMHSA application for mobile devices. The information will be used to: (1) Enhance SAMHSA DTAC training, webinar, and podcast curricula and content and enhance these resources as feedback is gathered through this data collection effort; and (2) enhance the SAMHSA application for mobile devices.

SAMHSA DTAC will be responsible for administering the data collection instruments and analyzing the data. SAMHSA DTAC will use data from the Training Feedback Form, the Webinar/Podcast Feedback Form, the Training Follow-Up Interview Guide, and the Webinar Feedback Form Follow-Up Interview Guide to inform current and future training, webinar, and podcast activities and to ensure these activities continue to align with state/territory/tribe and local disaster behavioral health needs. SAMHSA will use data from the Mobile Application Feedback Form to inform updates and enhancements to the SAMHSA application for mobile devices. The components of the data collection are listed and described below, and a summary table of the number of respondents and respondent burden has also been included.

Training Feedback Form and Webinar/Podcast Feedback Form. The Training Feedback Form and the Webinar/Podcast Feedback Form will assess the following: Content, presentation style, and presentation mode; relevance of the information presented; and satisfaction with the information presented. These surveys will be administered to all training and webinar participants immediately following each SAMHSA DTAC training or event, and periodically to those who have viewed podcasts. Six events or podcasts are estimated to be presented and made available each year. For webinars, podcasts, and web-based training events, the survey will be administered online. For those who attend in-person training events, the survey will be administered in person using hard copies of the survey instrument.

Mobile Application Feedback Form. The Mobile Application Feedback Form is designed to elicit feedback on the usefulness of the SAMHSA application for mobile devices, satisfaction with the application, and suggestions for improvements. It will be administered as a link to a web-based survey directly through the application to all users of the SAMHSA application.

Training Feedback Form Follow-Up Interviews and Webinar Feedback Form Follow-Up Interviews. The Training Feedback Form Follow-Up Interviews and Webinar Feedback Form Follow-Up Interviews will be conducted 1 month following participation in a SAMHSA DTAC training or webinar, with a sample of up to 10 percent of event attendees (or five individuals if 10 percent of participants is fewer than five). Data will be collected during one-on-one in-depth telephone interviews. The interviews will gather greater contextual information not available through administration of the respective Feedback Forms. The interviews will examine participants' experiences with the training and webinar and will include: The level to which the event met expectations; memory for information learned during the training and webinar; ability to apply the information to job tasks; suggestions for enhancing SAMHSA DTAC events; and suggestions for future training and webinar topics. The information collected will inform the content and presentation style of future SAMHSA DTAC trainings, webinars, and podcasts and associated materials.

Internet-based technology will be used to collect data via web-based surveys and for data entry and management of all proposed instruments. A 3-year clearance is requested for this project. The average annual respondent burden is estimated below. All proposed instruments will be ongoing data collection efforts. Table 1 presents the estimated annual data collection burden. These estimates reflect the average annual number of respondents, the average annual number of responses, the time required for each response, and the average annual burden in hours. It is estimated that each participant will attend or view no more than an average of two webinar or podcast events each year; participants will be asked to complete the Training Feedback Form or Webinar/Podcast Feedback Form for each event they attend or view. Participants will only be asked to participate in one Training Feedback Form Follow-Up Interview and one Webinar Feedback Form Follow-Up Interview each year.

Table 1—Annualized Estimate of Respondent Burden
Instrument | Number of respondents | Number of responses per respondent | Total number of responses | Hours per response per respondent | Total burden hours | Hourly wage rate ¹ | Total cost
Training Feedback Form:
Advanced Scheduled Event | 300 | 1 | 300 | 0.25 | 75.0 | $35 | $2,625.00
Quick-turnaround Event | 1,200 | 1 | 1,200 | 0.25 | 300.0 | 35 | 10,500.00
Webinar/Podcast Feedback Form:
Advanced Scheduled Event | 750 | 2 | 1,500 | 0.25 | 375.0 | 35 | 13,125.00
Quick-turnaround Event | 1,200 | 1 | 1,200 | 0.25 | 300.0 | 35 | 10,500.00
Mobile Application Survey | 600 | 1 | 600 | 0.25 | 150.0 | 35 | 5,250.00
Training Feedback Form Follow-Up Interviews | 150 | 1 | 150 | 0.50 | 75.0 | 35 | 2,625.00
Webinar Feedback Form Follow-Up Interviews | 195 | 1 | 195 | 0.50 | 97.5 | 35 | 3,412.50
Annual Total | 4,395 |  | 5,145 |  | 1,372.5 |  | $48,037.50

Send comments to Summer King, SAMHSA Reports Clearance Officer, Room 2-1057, One Choke Cherry Road, Rockville, MD 20857 or email her a copy at summer.king@samhsa.hhs.gov. Written comments should be received by November 4, 2013.

Summer King,
Statistician.

[FR Doc. 2013-21341 Filed 8-30-13; 8:45 am]

BILLING CODE 4162-20-P